DEPARTMENT OF TRANSPORTATION

Federal Highway Administration

Environmental Impact Statement: Tucker County, WV

AGENCY: Federal Highway Administration (FHWA), DOT

ACTION: Revised notice of intent.

SUMMARY: On May 2, 2000, the FHWA issued an NOI to advise the public that a Supplemental Environmental Impact Statement (SEIS) would be prepared for the Blackwater Avoidance area of the Thomas-to-Davis portion of the Parsons-to-Davis project of the proposed Appalachian Corridor H highway in Tucker County, West Virginia. This purpose of this revised NOI is to advise the public that the limits of the study area for the SEIS will be expanded to include the entire Parsons-to-Davis project. Expansion of the study area is required due to new information obtained during Endangered Species Act, Section 7 consultation regarding a federally listed, endangered species; the Northern Flying Squirrel (Glaucomys sabrinus fuscus).

FOR FURTHER INFORMATION CONTACT: Henry E. Compton, Division Environmental Coordinator, Federal Highway Administration, West Virginia Division, Geary Plaza, Suite 200, 700 Washington Street East, Charleston, West Virginia, 25301, Telephone: (304) 347-5268

SUPPLEMENTARY INFORMATION: In accordance with a court approved settlement agreement, the FHWA published an NOI on May 2, 2000, that indicated the FHWA, in cooperation with the West Virginia Department of Transportation (WVDOT), would prepare an SEIS to examine one or more potential alignment shifts for the Thomas-to-Davis portion of the Parsons-to-Davis project of the proposed Appalachian Corridor H highway in Tucker County, West Virginia. A Record of Decision (ROD) for the entire Appalachian Corridor H highway (FHWA-WV-EIS-92-01-F) from Aggregates to the WV/VA state line, a distance of approximately 100 miles, was approved on August 2, 1996.

During Endangered Species Act, Section 7 consultation with the United States Fish and Wildlife Service, populations of the federally listed, endangered, Northern Flying Squirrel (Glaucomys sabrinus fuscus) were found within the current study limits of the Parsons-to-Davis project. Due to this discovery, it was determined that in order to review a full range of potential alignments that may avoid the newly discovered populations, the study limits of the SEIS must be expanded to include the entire Parsons-to-Davis project.

The proposed Parsons-to-Davis project will provide a divided four-lane, partially controlled access highway on new location for a distance of approximately 9 miles. The purpose of this project is to provide safe and efficient travel between population centers in Tucker County (Parsons Area and Thomas/Davis Area), while also contributing to the completion of Corridor H in West Virginia.

Alternates under consideration in the SEIS will be: (1) The no-action alternative, (2) the preferred alternative that was approved in the 1996 ROD, and (2) one or more alternatives that avoid the Blackwater Area, as identified in Exhibit 4 of the court approved Corridor H Settlement Agreement. Based on preliminary studies, it is expected that the avoidance alternatives considered in the SEIS will include one or more alignments that would shift the project to the north, resulting in additional connections to US 219, WV Route 32, and WV Route 93 in the vicinity of the towns of Thomas and Davis.

Letters describing the proposed action and soliciting comments will be sent to appropriate federal, state, and local agencies, and to private organizations and citizens who have expressed or are known to have an interest in this proposal.

To ensure the full range of issues related to the proposed action are addressed and all significant issues identified, comments and suggestions are invited from all interested parties. Comments or questions concerning this proposed action should be directed to the FHWA at the address provided above.

(Catalog of Federal Domestic Assistance Program Number 20.205, Highway Research Planning and Construction. The regulations implementing Executive Order 12372 regarding intergovernmental consultation on Federal programs and activities apply to this program.)
Issued on: September 27, 2001.
Henry E. Compton,
Environmental Coordinator, Charleston, West Virginia.

[FR Doc. 01-25112 Filed 10-5-01; 8:45 am]

BILLING CODE 4910-22-M